DEPARTMENT OF AGRICULTURE

Rural Utilities Service

Weather Radio Transmitter Grant Program

AGENCY: Rural Utilities Service, USDA.

ACTION: Notice of funds availability (NOFA).

SUMMARY: The Rural Utilities Service announces a new grant program and the availability of grant funds under this program to finance the installation of new transmitters to extend the coverage of the National Oceanic and Atmospheric Administration's Weather Radio system (NOAA Weather Radio) in rural America. The President of the United States and the United States Congress have made $5 million in grant funds available to facilitate the expansion of NOAA Weather Radio system coverage into rural areas that are not covered or are poorly covered at this time. This grant program will provide grant funds, on an expedited basis, for use in rural areas and communities of 50,000 or less inhabitants. Grant funds are available immediately and applications will be processed on a first-come, first-served basis until the appropriation is used in its entirety. Upon full utilization of the $5,000,000 appropriation, the Rural Utilities Service will publish a notice in the Federal Register notifying the public accordingly.

DATES: Applications for grants will be accepted following publication of this notice and will be accepted until grants totaling $5 million in appropriations have been made. Comments regarding the information collection requirements under the Paperwork Reduction Act must be received on or before June 4, 2001, to be assured of consideration.

ADDRESSES: Comments regarding the information collection requirements may be sent to F. Lamont Heppe, Jr., Director, Program Development and Regulatory Analysis, Rural Utilities Service, U.S. Department of Agriculture, 1400 Independence Ave., SW., Stop 1522, Room 4034 South Building, Washington, DC 20250-1522.

FOR FURTHER INFORMATION CONTACT: Roberta D. Purcell, Assistant Administrator, Telecommunications Program, Rural Utilities Service, STOP 1590, 1400 Independence Avenue, SW., Washington, DC 20250-1590, Telephone (202) 720-9554, Facsimile (202) 720-0810.

SUPPLEMENTARY INFORMATION:

Information Collection and Recordkeeping Requirements

In accordance with the Paperwork Reduction Act of 1995 (44 U.S.C. chapter 35), RUS invites comments on this information collection for which RUS intends to request approval from the Office of Management and Budget (OMB). These requirements have been approved by emergency clearance under OMB Control Number 0572-0124.

Comments on this notice must be received by June 4, 2001.

Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques or other forms of information technology.

Comments may be sent to F. Lamont Heppe, Jr., Director, Program Development and Regulatory Analysis, Rural Utilities Service, U.S. Department of Agriculture, 1400 Independence Ave., SW., Stop 1522, Room 4034 South Building, Washington, D.C. 20250-1522.

Title: Weather Radio Transmitter Grant Program.

Type of Request: New collection.

Estimate of Burden: Public reporting burden for this collection of information is estimated to average 5 hours per response.

Respondents: Not-for-profit institutions, State, Local or Tribal Government.

Estimated Number of Respondents: 60.

Estimated Number of Responses per Respondent: 1.

Estimated Total Annual Burden on Respondents: 5 hours.

Copies of this information collection can be obtained from Michele Brooks, Program Development and Regulatory Analysis, at (202) 690-1078.

All responses to this information collection and recordkeeping notice will be summarized and included in the request for OMB approval. All comments will also become a matter of public record.

General Information

The National Weather Service operates an All Hazards Early Warning System that alerts people in areas covered by its transmissions of approaching dangerous weather and other emergencies. The National Weather Service can typically provide warnings of specific weather dangers up to fifteen minutes prior to the event. At present, this system covers all major metropolitan areas and many smaller cities and towns; however, many rural areas lack NOAA Weather Radio coverage. This new grant authority is intended to improve coverage of NOAA Weather Radio in rural areas thereby promoting public safety and awareness.

Applications

Applications will be accepted as discussed previously in the “Dates” section. All interested parties are strongly encouraged to contact the Rural Utilities Service, USDA to discuss their financial needs and eligibility.

Use of Grant Funds

Grant funds must be used to purchase and install NOAA Weather Radio transmitters and antennas that will be combined with donated tower space and other site resources to establish new rural NOAA Weather Radio transmitters.

Maximum Size of Grants

Generally, grants shall be limited to a maximum size of $80,000 per site. In view of the probability that larger, community-based rural organizations, such as statewide cooperative associations, may wish to arrange coverage of multiple rural areas, any one applicant may file applications to cover no more than five (5) different sites.

Definition of Rural Area

As used in this notice, rural area means a city, town, or unincorporated area that has a population of 50,000 inhabitants or less, other than an urbanized area immediately adjacent to a city, town, or unincorporated area that has a population in excess of 50,000 inhabitants.

General Terms of Grant

Except to the extent set forth in this Notice of Funds Availability, these grants will be made in accordance with 7 CFR part 3570.

Eligible Applicants

Applicants must be non-profit corporations or associations (including Rural Utilities Service electric and telecommunications borrower cooperatives), units of local or state government, or Federally-recognized Indian tribes.

Grantee Responsibilities

Grantees must execute a grant agreement in form and substance satisfactory to the Rural Utilities Service.

Grantees agree to inform the Rural Utilities Service of their progress during the installation and testing of the proposed transmitter equipment, and when the new transmitter is placed into service.

Grant Limitations

Grant funds may not be used to pay for facilities located in non-rural areas.

Grant assistance will be provided on a graduated scale with sparser, lower income communities eligible for a higher proportion of grant funds to total project costs. The grantee must provide matching funds to meet the full cost of the project. Grant assistance is limited to the following percentages of eligible project costs:

The grant may pay up to 75 percent of the total project cost when the transmitter is located in rural areas outside of a community or in a rural community of 12,000 or less, and where average per capita income for the county where the transmitter is located is less than $36,000, as determined by Per Capita Personal Income by County, Bureau of Economic Analysis, U.S. Department of Commerce, at www.bea.doc.gov/vea/regional/reis/ (“PCI”); The grant may pay up to 65 percent of the total project cost when the transmitter is located in rural areas outside of a community or in a rural community of 20,000 or less, and where average per capita income for the county where the transmitter is located is less than $38,000, as determined by PCI;

The grant may pay up to 55 percent of the total project cost when the transmitter is located in rural areas outside of a community or in a rural community of 50,000 or less, and where average per capita income for the county where the transmitter is located is less than $40,000, as determined by PCI.

Grant assistance may not be used to pay operating or annual recurring costs, including rentals, but these excluded costs may be included in the computation of the eligible project cost.

Project Needs

An area's need for a new NOAA Weather Radio transmitter is determined by its inherent risk of hazardous weather, and the absence of adequate coverage by an existing transmitter. The Rural Utilities Service, in consultation with the National Weather Service, has developed the attached list of proposed rural transmitter sites that will be eligible for funding under this notice. Completed applications that cover sites on this list and meet all other requirements discussed in this notice will be funded on a first-come, first-served basis, until all appropriated funds have been exhausted.

A transmitter acquired under this program may be placed on a tower regardless of where the tower is located within a rural area so long as the estimated signal coverage footprint from the transmitter covers at least 60 percent of the hypothetical site area. The hypothetical site area is the area included within a circle with a 45-mile radius around a proposed rural transmitter site on the list.

The Rural Utilities Service will update its list from time to time and will publish updates in the Federal Register.

Matching Funding

Under Grant Limitations, above, matching funds are required to compliment grant funds made available under this program. An applicant may meet the matching fund requirement by donating, or arranging for the donation of, facilities needed to complete the project. For example, an applicant proposing a site for a new NOAA Weather Radio transmitter may donate tower and equipment building space, or find a third-party donor of those facilities, and use the value of tower and equipment building rental calculated over the life of the transmitter to satisfy matching funds requirements. The applicant may also use the estimated cost of donated power, communications and standby power over the life of the transmitter to satisfy the matching funds requirement. The commitment of these donations must be unqualified and in writing to be considered in the calculation of matching funds.

For such contributions to be utilized as matching funds, the applicant must estimate the value of the tower space contributed over the life of the transmitter which, for the purposes of this program, shall be assumed to be such period as the applicant selects, but not less than 15 years. The value of contributions of electrical power and telecommunications service must also be estimated using the same transmitter life.

The Grant Application

The completed grant application must contain:

(1) A description of the new NOAA Weather Radio transmitter, its location, and projected area of coverage;

(2) A detailed description of the community's need for the proposed system; and

(3) A project budget, showing:

(a) The amount of grant funds requested, and descriptions of the equipment proposed to be purchased with those funds; and

(b) Contributions of funds, facilities, and services required to complete and sustain the project that will be applied to meet matching funds requirements as set forth in this NOFA. Matching funds requirements cannot be met by funds from a Federal source or in-kind matching facilities purchased with Federal funds.

(4) Binding commitments from the applicant and the tower and site owners, if other than the applicant, that any offered commitments, such as tower space and electrical power, that are used to meet matching funds requirements will be provided, irrespective of changes in ownership of the facilities, without charge for the life of the transmitter as determined by the applicant pursuant to the section entitled “Matching Funding”;

(5) A statement giving the name and population of the community and county in which the transmitter is located;

(6) A description of any physical facilities offered to satisfy the matching fund requirements, including the tower height, age, load capacity, the elevation on the tower where space is offered, and details of equipment building space that will be made available for transmitter equipment;

(7) A statement that the applicant, if it receives a Weather Radio grant pursuant to this NOFA, will execute a grant agreement containing technical and other standards and otherwise satisfactory to RUS.

(8) A statement that the transmitter that will cover at least 60 percent of a hypothetical site area;

(9) If the applicant is not the source of all matching funds or in-kind facilities offered, a list detailing each contributor and the items to be contributed, unqualified written commitments for delivery from each contributor, including the time of delivery, and the estimated value of the contribution;

(10) A statement that other funding, such as loans, or state or local grant funding, or internally generated funding, is not available to establish a new NOAA Weather Radio transmitter; and

(11) Such other information as may be reasonably requested by the Rural Utilities Service to clarify a particular application.

Grant Award Criteria

The Rural Utilities Service will process and approve, in the order received, grant applications meeting the requirements of this NOFA.

Grantee Procurement

Grantees establishing new NOAA Weather Radio transmitters must purchase National Weather Service—certified equipment, and must perform workmanship in a manner that is acceptable to the National Weather Service.

Dated: March 27, 2001.
Blaine D. Stockton,
Acting Administrator, Rural Utilities Service.

NWR Site Listing
State and site name | County name | FIPS | Latitude | Longitude
ALABAMA:
ONEONTA | BLOUNT | 1009 | 34 03 04 | 86 29 01
PLEASANT RIDGE | GREENE | 1063 | 32 55 05 | 88 02 14
ROCKFORD | COOSA | 1037 | 32 55 06 | 86 16 04
SELMA | DALLAS | 1047 | 32 29 08 | 87 06 02
ALASKA:
BARROW | NORTH SLOPE | 2185 | 71 17 25 | 156 46 43
BETHEL | BETHEL | 2050 | 161 45 21 | 60 47 32
CAPE SPENCER | SKAGWAY-YAKUTAT | 2231 | 58 12 34 | 136 39 12
DILLINGHAM | DILLINGHAM | 2070 | 158 27 27 | 59 02 23
GLENALLEN | GLENALLEN | 2261 | 62 06 33 | 149 59 50
GUSTAVUS | SKAGWAY-YAKUTAT | 2231 | 58 24 40 | 135 45 29
KAKE | WRANGELL PETERSBURG | 2280 | 56 28 24 | 133 56 55
KOTZEBUE | NORTHWEST ARCTIC | 2188 | 66 53 54 | 162 35 48
NAKNEK | BRISTOL BAY | 2060 | 58 43 87 | 157 01 00
NINILCHIK | KENAI PENNINSULA | 2122 | 60 03 00 | 151 38 82
SAND POINT | ALEUTIANS EAST | 2013 | 55 20 39 | 160 29 27
TOK | SOUTHEAST FAIRBANKS | 2240 | 63 18 47 | 143 00 29
WASILLA | MATANUSKA | 2170 | 61 34 96 | 149 26 75
AMERICAN SAMOA:
PAGO PAGO |  | 60010 |  |
MT ALVA | TUTUILA ISLAND | 60010 |  |
LE'OLO RIDGE | OFU ISLAND | 60010 |  |
MT OLOTELE | TUTUILA ISLAND | 60010 |  |
ARIZONA:
E YUMA COUNTY | YUMA | 4027 | 32 45 06 | 114 00 18
KYKOTSMOVI | NAVAJO | 004017 | 35 18 00 | 110 31 00
MOHAVE (2) | MOHAVE | 4015 | 34 29 02 | 114 19 18
NOGALES | SANTA CRUZ | 004023 | 38 21 03 | 110 47 02
PIMA | PIMA | 004019 | 32 06 14 | 111 48 53
ARKANSAS:
BRINKLEY/FOREST CITY | MONROE | 5095 | 34 53 16 | 91 11 40
EL DORADO | UNION | 5139 | 33 34 00 | 92 50 44
MAGNOLIA | COLUMBIA | 5027 | 33 15 33 | 93 14 00
MARIANNA | LEE | 5077 | 34 46 68 | 90 46 09
WILMOT | ASHLEY | 5003 | 33 18 25 | 90 53 49
CALIFORNIA:
PT LOMA (MARINE) | SAN DIEGO | 006073 | 33 03 09 | 116 29 03
SAN DIEGO (SPANISH) | SAN DIEGO | 006073 | 33 03 09 | 116 29 03
ALTURAS | MODOC | 006049 | 41 43 50 | 121 21 14
BIG SUR | MONTEREY | 006053 | 36 16 13 | 121 48 23
BRECKENRIDGE MTN | KERN | 006029 | 35 19 02 | 118 40 05
CONTRA COSTA CNTY | CONTRA COSTA | 6013 | 37 54 20 | 122 09 34
CUESTA PEAK | LOS ANGELES | 006037 | 34 09 09 | 118 12 1
EL PASO MTNS | KERN | 6029 | 35 19 02 | 118 40 05
HORSE MOUNTAIN | HUMBOLDT | 006023 | 40 52 28 | 123 43 54
LAKE ELSINORE | ORANGE | 006059 | 33 38 05 | 117 49 01
LAKEPORT | LAKE | 006033 | 39 06 06 | 122 44 04
LAYTONVILLE | TRINITY | 006105 | 39 41 32 | 123 28 71
METRO MOHAVE (2) | SAN BERNADINO | 6071 | 34 06 46 | 117 16 39
MOUNT WILSON | LOS ANGELES | 006037 | 34 09 09 | 118 12 1
MOUNT WILSON SPANISH | LOS ANGELES | 006037 | 34 09 09 | 118 12 1
MT PIERCE | HUMBOLDT | 006023 | 40 39 03 | 123 51 04
MT TAMALPIAS | SANTA CLARA | 006085 | 37 16 01 | 121 16 08
MT. SHASTA | SISKIYOU | 006093 | 41 18 36 | 41 18 36
OJAI | VENTURA | 006111 | 34 20 09 | 119 03 04
ORLEANS | HUMBOLDT | 006023 | 41 18 04 | 123 32 47
OWENS VALLEY | INYO | 006027 | 38 35 74 | 120 25 03
PORTOLA MT | PLUMAS COUNTY | 006063 | 40 01 90 | 120 44 30
QUINCY/CHESTER | PLUMAS | 6063 | 40 00 54 | 119 06 43
REDWOOD NP | DEL NORTE | 006015 | 41 45 58 | 124 02 48
SAN DIEGO INTERIOR | SAN DIEGO | 006073 | 33 03 09 | 116 29 03
SEQUOIA NP | TULARE | 6107 | 36 16 18 | 118 32 24
SEQUOIA NP | TULARE | 6107 | 36 16 18 | 118 32 24
SUSANVILLE | LASSEN | 006035 | 40 24 59 | 120 39 07
UKIAH | MENDOCINO | 006045 | 39 26 04 | 123 23 00
WEAVERVILLE | TRINITY | 006105 | 40 40 04 | 123 02 07
YOSEMITE | CALAVERAS | 006009 | 37 44 43 | 119 35 50
COLORADO:
ANTON | WASHINGTON | 8121 | 39 59 04 | 103 07 06
ASPEN | PITKIN | 8097 | 39 18 02 | 106 56 05
CANON CITY | FREMONT | 8043 | 38 28 09 | 105 33 05
CORTEZ | MONTEZUMA | 8083 | 37 19 20 | 108 32 45
CRAIG | MOFFAT | 8081 | 40 38 09 | 108 11 03
DURANGO | LA PLATA | 8067 | 36 56 08 | 108 09 07
EAGLE | EAGLE | 8037 | 39 37 03 | 106 37 05
EISENHOWER TUNNEL | CLEAR CREEK | 8019 | 39 45 01 | 104 54 08
FRANKTOWN | DOUGLAS | 8035 | 39 20 06 | 104 53 06
GUNNISON | GUNNISON | 8051 | 38 40 09 | 107 02 04
HARTSEL | PARK | 8093 | 39 07 07 | 105 41 00
HOLYOKE | PHILLIPS | 8095 | 40 38 00 | 102 24 00
HOT SULPUR SPRINGS | GRAND | 8049 | 40 06 04 | 104 07 01
IDAHOE SPRINGS | GILPIN | 8047 | 39 52 14 | 105 29 00
JULESBURG | SEDGWICK | 8115 | 40 56 35 | 102 21 28
LEADVILLE | LAKE | 8065 | 39 10 09 | 106 20 41
MEEKER | RIO BLANCO | 8103 | 40 01 08 | 108 18 06
NATURITA | MONTROSE | 8085 | 37 19 05 | 108 33 08
NUCLA | SAN MIGUEL | 8113 | 38 01 02 | 108 23 03
PAGOSA SPRINGS | ARCHULETA | 8007 | 37 13 01 | 107 01 07
SALIDA | CHAFFEE | 8015 | 38 46 00 | 106 05 05
SPRINGFIELD | BACA | 8009 | 37 19 01 | 102 32 03
TRINIDADS | LAS ANIMAS | 8071 | 37 20 01 | 103 58 07
WALSENBURG | HUERFANO | 8055 | 37 39 06 | 104 54 03
CHEYENNE WELLS | CHEYENNE | 8017 | 38 49 00 | 103 31 20
LIMON/BOYERO | LINCOLN | 8073 | 39 15 50 | 103 41 30
NUCLA | MONTROSE | 8085 | 38 29 14 | 107 54 17
PEONIA | DELTA | 8029 | 38 45 06 | 108 59 10
RANGELY | RIO BLANCO | 8103 | 40 08 50 | 109 59 07
STEAMBOAT SPRINGS | ROUTT | 8107 | 40 31 07 | 106 53 03
WALDEN | JACKSON | 8057 | 40 43 54 | 106 15 59
FLORIDA:
NORTH MIAMI | DADE | 12025 | 25 33 05 | 78 54 03
PALMDALE | GLADES | 12043 | 26 57 09 | 81 05 07
SOUTH MIAMI | DADE | 12025 | 25 33 05 | 78 54 03
TAMPA | HILLSBOROUGH | 12057 | 40 08 55 | 104 47 69
GEORGIA:
LA GRANGE | TROUP | 13285 | 33 02 96 | 85 01 37
HAWAII:
DIAMON HEAD CREATER | HONOLULU | 15003 | 21 29 01 | 157 59 01
HANALEI | KAUAI | 15007 | 22 12 19 | 159 30 10
KA ANAPALI | MAUI | 15009 | 20 47 06 | 156 19 20
KAHAUA | HAWAII | 15001 | 19 35 00 | 155 58 09
KAILUA-KONA | HAWAII | 15001 | 19 35 04 | 155 30 09
KANEOHE | HAWAII | 15001 | 19 35 04 | 155 30 09
LAHAINA | MAUI | 15009 | 20 52 42 | 156 40 57
N.E. KAUAI | KAUAI | 15007 | 22 06 00 | 159 31 07
IDAHO:
BURLEY MT HARRISON | CASSIA | 016031 | 42 17 20 | 113 40 70
ISLAND PARK | FREMONT | 016043 | 44 14 70 | 111 28 80
KELLOGG WALLACE | SHOSHONE | 016079 | 47 20 05 | 115 15 51
SALMON | LEMHI | 016059 | 44 55 06 | 114 02 80
SAND POINT | BONNER | 016017 | 48 16 36 | 116 33 08
SODA SPRINGS | ONEIDA | 016071 | 42 15 00 | 112 26 20
ILLINOIS:
LENA | STEPHENSON | 17177 | 42 22 85 | 89 49 31
INDIANA:
RICHMOND | WAYNE | 18177 | 39 49 44 | 84 53 25
RICHMOND | WAYNE | 18177 | 39 49 44 | 84 53 25
COAL CITY | OWEN | 18119 | 39 17 12 | 86 45 45
ROCHESTER | FULTON | 18049 | 40 45 08 | 86 45 00
IOWA:
MAQUOKETA | JOHNSON | 19103 | 42 03 72 | 90 39 82
WESLEY | KOSSUTH | 19081 | 45 05 20 | 93 59 22
KANSAS:
BELVIDERE | KIOWA | 20097 | 37 35 09 | 99 15 00
BURLINGTON | COFFEY | 20031 | 38 31 06 | 95 40 30
DIGHTON COOP | LANE | 20101 | 38 31 10 | 100 30 10
FT SCOTT | BOURBON | 20011 | 37 51 00 | 94 42 09
HILL CITY | GRAHAM | 20065 | 39 21 53 | 99 50 30
KIRWIN LAKE | PHILLIPS | 20147 | 39 46 70 | 99 18 00
LIBERAL | SEWARD | 20175 | 37 10 80 | 100 49 50
LINN | LINN COUNTY | 20107 | 38 13 01 | 94 49 01
MARYSVILLE | MARSHALL | 20117 | 39 49 30 | 96 23 06
NESS CITY | NESS | 20135 | 38 27 10 | 99 54 22
OSBORNE | OSBORNE | 20141 | 39 26 20 | 98 41 40
POMONA | FRANKLIN | 20059 | 38 35 45 | 95 27 12
PRATT | PRATT | 20097 | 37 37 10 | 99 06 22
ZENDA | KINGMAN | 20095 | 37 34 00 | 98 08 30
KENTUCKY:
CAMPBELLSVILLE | TAYLOR | 21217 | 37 25 43 | 84 52 33
EKRON | MEADE | 21163 | 38 19 54 | 85 18 48
KELTNER | ADAIR | 21001 | 37 32 36 | 85 6 24
OWENTON | OWEN | 21184 | 38 44 36 | 84 19 42
STEWARTSVILLE | GRANT | 21081 | 38 38 00 | 84 37 00
WASHINGTON | MASON | 21161 | 38 36 00 | 83 48 00
WASHINGTON | MASON | 21161 | 38 36 00 | 83 48 00
WHITESVILLE | OHIO | 21183 | 37 31 06 | 85 59 36
LOUISIANA:
BIENVILLE | BIENVILLE | 22013
BOGALUSA | WASHINGTON | 22117 | 30 47 20 | 89 50 55
DERIDDER | BEAUREGARD | 22011 | 30 50 46 | 93 17 18
FRANKLINTON | WASHINGTON | 22117 | 31 24 08 | 88 13 09
LUTCHER | ST JAMES | 22093 | 30 32 25 | 90 41 56
MANY | SABINE | 22085 | 31 34 07 | 93 29 02
NATCHITOCHES | NATCHITOCHES | 22069 | 31 50 00 | 93 42 00
REDDELL | EVANGELINE | 22039 | 30 43 60 | 92 22 30
RUSTON | LINCOLN | 22061 | 32 31 23 | 92 38 16
OAKDALE | ALLEN | 22003 | 30 48 59 | 92 39 39
MAINE:
CUTLER | WASHINGTON | 23029 | 44 58 08 | 67 36 36
FRENCHVILLE | AROOSTOOK | 23003 | 47 17 07 | 68 18 41
MILLINOCKET | PENOBSCOT | 23019 | 45 31 01 | 68 38 80
MILO | PISCATAQUIS | 23021 | 45 50 33 | 69 17 42
OXFORD | OXFORD | 23017 | 44 07 54 | 70 29 37
SOMERSET | SOMERSET | 23025 | 45 36 26 | 69 47 53
MARYLAND:
FROSTBURG | ALLEGANY | 24001 | 39 39 54 | 78 53 53
SUDLERSVILLE | QUEEN ANNE'S | 24035 | 39 10 31 | 75 55 06
MASSACHUSETTS:
ESSEX | ESSEC/MIDDLESEX | 25017 | 42 37 51 | 70 46 21
NANTUCKET | NANTUCKET | 22019 | 41 17 00 | 70 05 00
MICHIGAN:
BERGLAND | ONTONAGON | 26131 | 47 02 90 | 88 48 90
CROSWELL | SANILAC | 26151 | 43 28 00 | 82 36 80
CRYSTAL FALLS | IRON | 26071 | 46 05 53 | 88 20 02
ESCANABA | DELTA | 26041 | 45 44 43 | 87 03 52
IRONWOOD | GPGEBIC | 26053 | 46 27 17 | 90 10 15
LUDINGTON | MASON | 26105 | 44 02 80 | 86 33 80
NEWBERRY | LUCE | 26095 | 46 32 00 | 85 36 00
PORT AUSTIN | HURON | 26063 | 42 02 46 | 82 59 39
STEUBEN | SCHOOLCRAFT | 26153 | 46 19 00 | 86 13 80
MINNESOTA:
BAUDETTE | LAKE OF THE WOODS | 27077 | 48 42 44 | 94 36 00
FERGUS FALLS | OTTER TAIL | 27111 | 46 10 26 | 95 54 55
TWIN VALLEY | NORMAN | 27107 | 47 15 36 | 96 15 32
AITKIN | AITKIN | 27001 | 46 39 50 | 95 33 00
FINLAND | LAKE | 27075 | 46 41 50 | 95 19 09
LAKE BRONSON | KITTSON | 27069 | 48 44 08 | 96 39 45
LAKE SHORE SHELL LAKE | CASE | 27021 | 46 24 29 | 94 21 20
LONE PRAIRIE | TODD | 27153 | 64 14 54 | 94 30 00
ORR | ST LOUIS | 27137 | 48 49 54 | 88 33 36
PINE CITY | PINE | 27115 | 45 52 30 | 92 33 00
RED WING | GOODHUE | 27049 | 44 35 24 | 91 54 12
SILVER LAKE | MCLEOD | 27085 | 45 00 42 | 93 13 12
VIRGINIA | ST LOUIS | 27137 | 48 03 30 | 86 54 24
WINONA | MURRAY | 27101 | 44 01 30 | 96 33 80
MISSISSIPPI:
OAK GROVE | WEST CARROLL PARISH | 28015 | 36 46 00 | 91 27 20
MISSOURI:
BATES COUNTY | BATES | 29013 | 38 15 01 | 94 21 00
CARROLLTON | CARROLL | 29033 | 39 36 50 | 93 34 20
CASSVILLE | BARRY | 29009 | 36 42 90 | 93 49 20
COLUMBIA | BOONE | 29019 | 39 00 30 | 92 06 24
GAINESVILLE | OZARK | 29153 | 36 32 45 | 92 38 57
JEFFERSON CITY | COLE | 29051 | 38 31 90 | 92 16 30
SALINE | MERCER | 29129 | 40 31 37 | 93 43 40
SHAWNEE MOUND | HENRY | 29083 | 38 27 20 | 93 49 00
MONTANA:
BAKER/EKALAKA | FALLON | 030025 | 46 21 47 | 104 16 26
BLAINE | BLAINE | 030005 | 48 26 09 | 108 57 43
BOZEMAN-LIVINGSTON | GALLATIN | 030031 | 45 19 45 | 111 04 50
BROADUS | POWER RIVER | 030075 | 45 24 67 | 105 33 90
CIRCLE | MCCONE | 030055 | 47 35 79 | 107 38 73
CUT BANK | GLACIER | 030035 | 48 37 59 | 112 19 31
DILLON | BEAVERHEAD | 030001 | 45 12 59 | 112 38 12
GLACIER NP | GLACIER | 030035 | 48 41 15 | 113 48 15
JORDAN | GARFIELD | 30033 | 47 25 06 | 107 02 00
LEWISTOWN | FERGUS | 030027 | 47 15 00 | 109 15 48
LIBBY | LINCOLN | 030053 | 48 27 20 | 115 22 11
PHILIPSBURG | GRANITE | 030039 | 46 22 58 | 113 24 57
POPLAR | ROOSEVELT | 30085 | 48 16 48 | 104 58 30
SEELEY LAKE | MISSOULA | 030063 | 47 12 56 | 113 36 45
ST. REGIS/SUPERIOR | MINERAL | 030061 | 47 17 58 | 115 06 06
THOMPSON FALLS | SANDERS | 030089 | 47 41 50 | 115 06 20
NEBRASKA:
ALBION | BOONE | 31011 | 41 41 27 | 98 00 12
LEWELLEN | GARDEN | 31069 | 41 34 59 | 102 13 36
MCCOOK | RED WILLOW | 31145 | 40 21 34 | 100 11 23
MERMA | CUSTER | 31041 | 41 38 09 | 101 38 50
MULLEN | HOOKER | 31091 | 42 02 23 | 101 02 32
ORD | VALLEY | 31175 | 41 22 38 | 98 41 31
PERU/FALLS CITY | NEMAHA | 31127 | 40 28 27 | 95 44 00
SHELBY | POLK | 31143 | 41 22 04 | 98 29 70
SHUBERT | RICHARDSON | 31147 | 40 04 87 | 95 23 38
SUPERIOR | NUCKOLLS | 31129 | 40 03 35 | 98 04 69
VALENTINE | CHERRY | 31031 | 42 02 23 | 100 53 29
WEST POINT | CUMING | 31039 | 41 55 90 | 96 38 83
NEVADA:
BATTLE MTN | LANDER | 032015 | 41 13 51 | 115 45 01
BEATTY/DEATH VALLEY NP | NYE | 32023 | 36 54 31 | 116 45 30
CALIENTE | LINCOLN | 032017 | 37 24 46 | 114 48 80
GREAT BASIN NP | WHITE PINE | 32033 | 38 56 06 | 114 14 37
HAWTHORNE | MINERAL | 032021 | 38 32 31 | 118 25 41
JACKPOT | ELKO | 032007 | 41 59 00 | 114 40 26
LAKE MEAD/LAKE MOJAVE | CLARK | 032003 | 35 11 59 | 114 34 17
LOVELOCK | PERSHING | 32027 | 40 27 16 | 118 22 34
MC GILL | WHITE PINE | 032033 | 38 56 06 | 114 14 37
MCGILL | WHITE PINE | 32033 | 39 24 32 | 114 58 36
PYRAMID LAKE | WASHOE | 032031 | 40 22 31 | 119 45 01
TONOPAH | NYE | 032023 | 36 54 31 | 116 45 30
NEW HAMPSHIRE:
HOLDEN HILL | COOS | 33007 | 44 56 47 | 71 20 49
MOOSE MTN | GRAFTON | 33009 | 43 42 30 | 72 09 16
MT WASHINGTON | COOS | 33007 | 44 41 05 | 71 10 19
PACK MODADNOCK MTN | HILLSBORO | 33011 | 42 51 40 | 71 52 45
STRATHAM HILL | ROCKINGHAM | 33015 | 43 02 22 | 70 53 26
TENNEY MTN | GRAFTON | 33009 | 43 44 35 | 47 41 42
NEW JERSEY:
HAMBURG MTN | SUSSEX | 34037 | 41 08 37 | 74 43 18
SOUTHARD | MONMOUTH | 34025 | 40 08 23 | 74 13 21
NEW MEXICO:
ALAMOGORDO | OTERO | 35035 | 32 53 05 | 105 57 27
ARTESIA | EDDY | 35015 | 32 35 01 | 104 38 84
CROWN POINT | MCKINLEY | 35031 | 35 53 97 | 108 43 36
GRANTS | CIBOLA | 35006 | 34 52 34 | 107 53 25
GUADALUPE MTN NP | EDDY | 35015 | 32 27 00 | 104 20 80
JICARILLA APACHE | RIO ARRIBA | 35039 | 36 30 33 | 106 41 49
LAS VEGAS | SAN MIGUEL | 35047 | 36 18 21 | 115 13 36
SANTA ROSA | GUADALUPE | 35019 | 34 56 36 | 104 40 36
SILVER CITY | GRANTS | 35017 | 32 27 28 | 108 26 54
SOCORRO | SOCORRO | 35053 | 34 06 93 | 106 32 52
TAOS/CHAMA | RIO ARRIBA | 35039 | 36 41 50 | 105 56 11
TRUTH OR CONSEQ. | SIERRA | 35051 | 32 02 60 | 107 30 10
TUCUMCARI | QUAY | 35037 | 35 17 06 | 103 41 49
NEW YORK:
CALL MT | STEUBEN | 36101 | 42 17 20 | 70 20 40
ITHACA | TOMPKINS | 36109 | 42 26 00 | 76 28 00
MT WASHINGTON | STEUBEN | 36101 | 42 17 20 | 70 20 40
NIAGARA | NIAGARA | 36063 | 43 10 30 | 79 05 22
PARISHVILLE | ST LAWRENCE | 36089 | 44 35 00 | 75 10 00
S. ADIRONDACK | HAMILTON | 36041 | 44 00 01 | 74 30 01
SOUTH HILL | CHAUTAUQUE | 36013 | 42 15 02 | 79 24 00
WELLSVILLE | ALLEGANY | 36003 | 42 13 71 | 77 28 10
YATES | YATES | 36123 | 42 37 00 | 77 06 00
NORTH CAROLINA:
ANSON | WAYNE COUNTY | 37191 | 35 22 00 | 78 00 01
CHATHAM | CHATHAM | 37037 | 35 42 53 | 79 10 47
GREENVILLE | PITT | 37147 | 35 34 00 | 77 23 00
JEFFERSON | ASHE | 37009 | 36 25 00 | 81 28 00
MACON | MACON | 37185 | 36 26 19 | 78 05 03
POTTERS HILL | DUPLIN | 37061 | 34 51 00 | 77 39 00
RICHMOND | RICHMOND | 37153 | 35 03 46 | 79 46 44
NORTH DAKOTA:
BOTTINEAU | BOTTINEAU | 38009 | 48 46 20 | 100 44 07
CAVALIER | PEMBINA | 38067 | 49 02 00 | 98 44 06
GWINNER | SARGENT | 38081 | 46 13 33 | 97 39 44
HETTINGLER | ADAMS | 38001 | 46 00 05 | 102 38 11
KENMARE | WARD | 38101 | 48 08 41 | 101 30 27
LANGDON | CAVALIER | 38019 | 48 45 08 | 99 29 40
NEW TOWN | MOUNTRIL | 38061 | 47 28 44 | 102 48 22
RUGBY | PIERCE | 38069 | 48 22 08 | 99 56 45
SHEYENNE | EDDY | 38027 | 47 49 25 | 99 05 40
STEELE | KIDDER | 38043 | 46 20 40 | 99 35 14
UNDERWOOOD | MC LEAN | 38055 | 47 46 46 | 101 11 03
WISHEK | MCINTOSH | 38051 | 39 05 01 | 83 04 19
OHIO:
FINDLAY | HANCOCK | 39063 | 41 05 78 | 83 00 01
OKLAHOMA:
BARTLESVILLE | WASHINGTON | 40147 | 36 35 31 | 95 42 07
BROKEN BOW | MC CURTAIN | 40089 | 34 01 33 | 94 44 11
GUYMON | TEXAS | 40139 | 36 40 58 | 101 28 52
MUSKOGEE | MUSKOGEE | 40101 | 35 44 52 | 95 22 10
STILLWATER | PANE | 40119 | 36 06 56 | 97 03 29
WEWOKA | SEMINOLE | 40133 | 35 09 31 | 96 29 93
OREGON:
BAKER CITY | BAKER | 041001 | 44 43 49 | 117 39 80
BURNS | HARNEY | 041025 | 43 56 63 | 119 04 39
CAPE BLANCO | CURRY | 041015 | 42 26 27 | 124 12 07
COLUMBIA GORGE | WASCO | 041065 | 45 42 35 | 121 31 19
DIAMOND LAKE AREA | KLAMATH | 041035 | 42 49 30 | 121 56 90
FLORENCE/REEDSPORT | LANE | 041039 | 43 58 58 | 124 05 55
FOSSIL SNOWBOARD RDG | WHEELER | 041069 | 44 43 50 | 120 04 40
JOHN DAY FALL MT | GRANT | 041023 | 44 25 33 | 18 56 23
LAKEVIEW | LAKE | 041037 | 42 46 94 | 119 44 26
UKIAH BLACK MT | UMATILLA | 041059 | 45 08 06 | 118 55 97
PENNSYLVANIA:
ALTOONA | BLAIR | 42013 | 40 50 96 | 78 41 88
DUTCHMAN HILL | POTTER | 42105 | 41 45 02 | 78 00 08
MEADVILLE | CRAWFORD | 42039 | 41 41 01 | 80 06 27
MT CARMEL | NORTHUMBERLAND | 42041 | 40 53 40 | 76 40 63
PUNXSUTAWNEY | JEFFERSON | 42065 | 40 56 32 | 78 58 17
WAYNE | WAYNE | 42127 | 41 39 01 | 75 18 23
PUERTO RICO:
VIEQUES | VIEQUES ISLAND | 72147 | 18 43 53 | 65 60 06
SOUTH CAROLINA:
BARNWELL | BARNWELL | 45011 | 33 14 41 | 81 21 32
CHESTERFIELD | CHESTERFIELD | 45025 | 34 38 45 | 79 56 43
GREENWOOD | GREENWOOD | 45047 | 34 11 43 | 82 09 43
ORANGEBURG | ORANGEBURG | 45075 | 33 30 01 | 80 31 90
ROCK HILL | YORK | 45091 | 34 15 06 | 81 15 19
SRN. GEORGETOWN | SMITH | 45089 | 34 37 79 | 82 22 18
UNION | UNION | 45087 | 34 43 22 | 81 37 26
WALHALLA | OCONEE | 45073 | 34 45 53 | 83 03 51
SOUTH DAKOTA:
FAITH | MEADE | 46093 | 45 02 13 | 98 46 43
PORCUPINE | SHANNON | 46113 | 43 23 75 | 102 32 12
ROSEBUD IND RES | TODD | 46121 | 43 23 19 | 100 84 98
TRIPP | HUTCHINSON | 46067 | 43 13 30 | 97 57 59
WHITE RIVER | MELLETTE | 46095 | 43 34 02 | 100 44 39
ZIEBACH STANDING ROCK | ZIEBACH | 46137 | 44 58 56 | 101 40 10
TENNESSEE:
BIG SANDY | BENTON | 47005 | 36 14 60 | 88 48 63
BLOUT | BLOUNT | 47009 | 35 39 22 | 85 20 29
CARTHAGE | SMITH | 47159 | 36 12 90 | 85 51 40
ETOWAH | MCMINN | 47107 | 32 46 49 | 93 03 30
LA FOLLETTE | CAMPBELL | 47013 | 36 22 58 | 84 07 12
LOBELVILLE-LINDEN | PERRY | 47135 | 35 37 02 | 87 40 22
MCKENZIE | CARROLL | 47017 | 36 14 60 | 88 38 63
PARSONS | WAYNE | 47181 | 35 13 16 | 87 22 26
POLK | POLK | 47139 | 35 28 93 | 87 26 92
PUTNAM | PUTNAM | 47141 | 36 11 09 | 85 42 58
SAVANNAH | HARDIN | 47071 | 35 13 57 | 88 14 48
SEQUATCHIE | SEQUATCHIE | 47153 | 35 13 58 | 85 47 26
SEWANEE | FRANKLIN | 47051 | 35 21 35 | 85 21 35
TEXAS:
SHAMROCK | WHEELER | 48483 | 35 12 51 | 100 14 55
STRATFORD | SHERMAN | 48421 | 36 20 10 | 102 04 18
ALPINE | BREWSTER | 48043 | 29 11 10 | 103 24 45
ARMSTRONG | KENEDY | 48261 | 26 49 70 | 97 42 50
BEEVILLE | BEE | 48025 | 28 24 02 | 97 44 53
BENAVIDES | DUVAL | 48125 | 27 35 55 | 98 24 28
BIG BEND NP | BREWSTER | 48043 | 29 11 10 | 103 24 45
BIG LAKE | REAGAN | 48383 | 31 22 30 | 100 31 00
BRECKENRIDGE | STEPHENS | 48429 | 32 45 20 | 98 54 07
BROWNFIELD | TERRY | 48445 | 33 10 52 | 102 16 26
BROWNWOOD | BROWN | 48049 | 31 42 33 | 98 59 27
CANTON-WILLS | VAN ZANDT | 48467 | 32 31 30 | 95 51 00
CENTER | SHELBY | 48419 | 31 25 22 | 103 29 34
CENTERVILLE | LEON | 48289 | 31 23 10 | 95 56 10
CHILDRESS | CHILDRESS | 48069 | 34 25 35 | 100 12 13
CISCO | EASTLAND | 48133 | 32 24 80 | 98 49 00
CONROE | MONTGOMERY | 48339 | 30 14 50 | 95 27 80
COTULLA | LA SALLE | 48283 | 28 26 12 | 96 14 05
CROCKETTT | HOUSTON | 48225 | 33 08 18 | 96 06 38
CRYSTAL CITY | ZAVALA | 48507 | 28 54 30 | 99 43 08
DALHART | DALLAM/HARTLEY | 48109 | 36 06 33 | 102 51 92
DIMMITT | CASTRO | 48069 | 34 33 03 | 102 18 41
EAGLE PASS | MAVERICK | 48323 | 28 42 32 | 100 29 57
EL PASO SPANISH | EL PASO | 48141 | 31 46 70 | 106 09 26
FAIRFIELD | FREESTONE | 48161 | 31 43 28 | 96 09 54
FALFURRIAS | BROOKS | 48043 | 27 23 22 | 98 12 92
FRIONA | PARMER | 48369 | 34 38 30 | 102 43 25
GAINESVILLE | COOKE | 48075 | 32 15 31 | 99 32 21
GEORGE WEST | LIVE OAK | 48297 | 28 25 03 | 98 15 00
GRAHAM | YOUNG | 48503 | 3310 49 | 98 40 32
GREENVILLE | HUNT | 48231 | 33 08 18 | 96 06 38
HASKELL | HASKELL | 48207 | 33 09 27 | 99 44 00
HEBBRONVILLE | JIM HOUGH | 48247 | 27 18 23 | 98 40 41
HEREFORD | DEAF SMITH | 48117 | 34 56 20 | 102 35 09
HICO | HAMILTON | 48065 | 31 44 05 | 98 08 07
HILLSBORO | HILL | 48217 | 32 00 39 | 97 07 47
KINGSVILLE | KLEGERG | 48273 | 27 30 56 | 97 51 21
KIRBYVILLE | JASPER | 48241 | 30 43 01 | 94 09 01
LAMPASAS | LAMPASAS | 48281 | 31 03 49 | 98 10 53
LEAKEY | REAL | 48385 | 29 44 59 | 99 45 53
LIBERTY | LIBERTY | 48291 | 30 11 05 | 94 50 01
MARFAIALPINE | PRESIDIO | 48377 | 30 18 28 | 104 01 07
MENARD | MENARD | 48327 | 30 55 03 | 99 47 10
MINERAL WELLS | PALO PINTO | 48363 | 32 48 30 | 98 06 45
MOUNT PLEASANT | TITUS | 48449 | 32 23 49 | 99 58 17
ORE CITY | UPSHUR | 48459 | 32 30 02 | 94 44 25
PALESTINE | ANDERSON | 48001 | 31 48 43 | 95 37 50
PAMPA | GRAY | 48179 | 35 22 85 | 100 34 87
PECOS | REEVES | 48389 | 31 22 00 | 103 27 50
PERRYTON | OCHILTREE | 48357 | 36 24 00 | 100 48 08
PLAINVIEW | HALE | 48189 | 34 11 05 | 101 42 23
RAYMONDVILLE | WILLACY | 48489 | 26 31 20 | 97 57 30
RIO GRANDE CITY | STARR | 48427 | 26 36 09 | 98 44 10
ROCK SPRINGS | EDWARDS | 48137 | 29 57 16 | 100 05 34
SANDERSON | TERRELL | 48443 | 30 08 32 | 102 23 37
SEMINOLE | GAINES | 48165 | 32 31 81 | 102 34 58
SHEFFIELD | PECOS | 48371 | 30 41 70 | 104 59 06
SIERRA BLANCA | HUDSPETH | 48229 | 31 10 28 | 105 21 24
SONORA | SUTTON | 48435 | 30 31 10 | 100 34 30
SPUR | DICKENS | 48111 | 33 28 35 | 100 51 19
STEPHENVILLE | ERATH | 48143 | 32 13 14 | 98 12 07
SWEETWATER | NOLAND | 48353 | 32 16 42 | 100 14 56
THALIA | FOARD | 48155 | 33 55 87 | 99 43 38
THROCKMORTON | THROCKMORTON | 48447 | 33 11 09 | 99 13 20
TOLEDO BEND | NEWTON | 48351 | 30 45 60 | 93 42 90
UVALDE | UVALDE | 48463 | 32 30 02 | 94 44 25
VAN HORN | CULBERTSON | 48097 | 31 03 90 | 104 27 73
WOODVILLE | TYLER | 48457 | 30 46 30 | 94 24 55
ZAPATA | ZAPATA | 48505 | 26 52 17 | 99 15 19
UTAH:
BRYCE CANYON | GARFIELD | 049017 | 37 52 40 | 111 18 50
CAPITOL REEF NP | SEVIER | 049041 | 38 45 50 | 111 54 50
CASTLE DALE | EMERY | 049015 | 39 00 09 | 110 38 90
FLAMING GORGE | UINTAH | 49047 | 40 57 02 | 109 35 09
GREEN RIVER | GRAND | 49019 | 39 22 12 | 107 43 00
GREEN RIVER | EMERY | 49015 | 39 06 36 | 111 09 06
HEBER | WASATCH | 049051 | 40 19 58 | 111 09 32
MOAB | GRAND | 49019 | 39 00 30 | 107 43 00
MONTICELLO | SAN JUAN | 49037 | 37 54 54 | 106 34 12
PRICE | CARBON | 49007 | 39 29 12 | 110 34 00
SEVIER VALLEY | SANPETE | 049039 | 39 25 40 | 111 45 20
ZION NP. | WASHINGTON | 049053 | 37 15 03 | 112 57 20
VERMONT:
RUTLAND | RUTLAND | 50021 | 43 34 06 | 73 04 10
VIRGIN ISLANDS:
ST. CROIX | ST. CROIX | 78010 | 17 43 08 | 64 46 30
ST. THOMAS | ST. THOMAS | 78030 | 18 21 19 | 64 56 13
VIRGINIA:
ACCOMACK | ACCOMACK | 51001 | 37 43 00 | 75 40 00
BOWLING GREEN | CAROLINE | 51033 | 38 03 00 | 77 21 00
CHARLOTTESVILLE | ALBEMARLE | 51003 | 38 01 45 | 78 28 37
EMPORIA | EMPORIA | 51595 | 36 41 09 | 77 32 34
ROCKBRIDGE | ROCKBRIDGE | 51163 | 37 48 54 | 79 24 73
SAND MTN | WYTHE | 51197 | 36 56 90 | 81 04 00
SOUTH BOSTON | HALIFAX | 51083 | 36 41 55 | 78 54 06
SOUTH HILL | MECKLENBERG | 51117 | 36 38 30 | 78 12 90
TAZEWELL | TAZEWELL | 51185 | 37 08 00 | 81 33 00
WISE | WISE | 51195 | 37 00 01 | 82 34 40
WASHINGTON:
BLAINE AREA | WHATCOM | 053073 | 48 48 40 | 121 56 70
CHEWELAH PK | STEVENS | 053065 | 48 23 49 | 117 51 10
CLE ELUM | KITTITAS | 053037 | 47 08 50 | 120 37 01
DAYTON | GARFIELD | 53023 | 46 50 30 | 117 38 90
GOLDENDALE | KLICKITAT | 053039 | 45 24 80 | 120 12 80
LAKE CHELAN | OKANOGAN | 053047 | 47 50 04 | 120 00 41
MOSES LAKE/EPHRATA | GRANT | 053025 | 47 07 49 | 119 16 37
MOUNT RANIER(2) | PIERCE | 053053 | 46 51 10 | 121 45 31
NACHES | YAKIMA | 053077 | 46 20 90 | 120 52 50
OLYMPIC NP | CLALLAM JEFFERSON | 053009 | 47 58 35 | 123 41 13
SKAGIT VALLEY | SKAGIT WHATCOM | 053073 | 48 48 60 | 121 56 70
SNOQUALMIE PASS | KING | 53033 | 47 26 00 | 121 48 40
STEVENS PASS | KING | 053033 | 47 26 00 | 121 48 40
WEST VIRGINIA:
GREG'S KNOB | PRESTON | 54077 | 39 27 40 | 79 38 10
MORGANTOWN | MONONGALIA | 54061 | 39 37 46 | 79 57 22
OLSEN KNOB | RANDOLPH | 54083 | 38 36 70 | 79 59 50
RANDOLPH | TUCKER | 54093 | 39 09 60 | 79 35 30
WISCONSIN:
SHELL LAKE | WASHBURN | 55129 | 45 50 00 | 45 50 00
ASHLAND | ASHLAND | 55003 | 46 35 33 | 90 53 01
GILMAN | TAYLOR | 55119 | 45 10 00 | 90 48 27
KENOSHA | KENOSHA | 55059 | 42 35 00 | 87 59 80
MANAWA/OGDENSBURG | WAUPACA | 55135 | 44 28 30 | 89 01 60
OWEN/WITHEE | CLARK | 55019 | 44 33 36 | 90 35 46
RHINELANDER | ONEIDA | 55085 | 45 38 12 | 89 24 43
WAUSAUKEE | MARINETTE | 55075 | 45 22 15 | 87 57 08
WYOMING:
GREYBULL | BIG HORN | 56003 | 45 04 30 | 106 01 00
AFTON | LINCOLN | 56023 | 42 25 08 | 110 25 04
GILLETTE | CROOK | 56011 | 44 15 48 | 104 56 59
JACKSON | TETON | 56039 | 43 44 04 | 109 32 05
LUSK | NIOBRARA | 56027 | 42 08 10 | 104 16 58
SUBLETTE | SUBLETTE | 56035 | 42 50 01 | 109 33 00
WORLAND AIRPORT | WASHAKIE | 56043 | 43 55 03 | 107 43 06
YELLOWSTONE NP | PARK | 56029 | 44 36 07 | 109 47 02

[FR Doc. 01-8231 Filed 4-3-01; 8:45 am]

BILLING CODE 3410-15-U